DEPARTMENT OF TRANSPORTATION

Surface Transportation Board

[STB Finance Docket No. 30186 (Sub-No. 3)]

Tongue River Railroad Co.—Construction and Operation—Western Alignment

AGENCY: Surface Transportation Board, DOT.

ACTION: Notice of adoption of procedural schedule.

SUMMARY: The Board is giving notice of the procedural schedule it adopted in a decision served July 7, 2003. The schedule is a result of the supplemental evidence the Tongue River Railroad Company (TRRC) filed to update the transportation aspects of its Western Alignment construction application in this sub-numbered proceeding (Tongue River III).

DATES: The Board's decision is effective on July 7, 2003. Pleadings and notices of intent to participate must be filed in accordance with the schedule set forth in the Appendix to this notice.

ADDRESSES: Send an original and 10 copies of the notice of intent to participate in STB Finance Docket No. 30186 (Sub-No. 3) to: Surface Transportation Board, 1925 K Street, NW., Washington, DC 20423-0001. All subsequent filings must be concurrently served on the Board and all parties of record as listed in the forthcoming updated service list.

FOR FURTHER INFORMATION CONTACT: Joseph H. Dettmar, (202) 565-1600 [Assistance for the hearing impaired is available through the Federal Information Relay Service (FIRS) at 1-800-877-8339.]

SUPPLEMENTARY INFORMATION: Under the Board's procedural schedule, each party of record (POR) will be allowed 40 days from the issuance date of the updated service list, discussed below, to file evidence or comments responsive to TRRC's supplemental evidence. A 40-day comment period provides ample time to analyze and comment on the updated evidence, which consists of two updated pro forma charts, four verified statements, and two letters supporting the proposal. This length of time balances the PORs' need to examine the updated evidence with the need to move forward on this matter. After the 40-day comment period has ended, TRRC will have 20 days to reply to the comments and responsive evidence.

In addition, prior to the beginning of the 40-day comment period, an opportunity will be given for new participants to become PORs. It has been almost 5 years since notice of this alternative construction proposal was originally published, and there may now be additional members of the public with an interest in this matter. Anyone interested in becoming a POR and being added to the service list must file a notice of intent to participate with the Board within 10 days of the service date of this decision (by July 17, 2003).¹ Send an original and 10 copies of the notice of intent to the address listed above. The new PORs must comply with the 40-day comment period, discussed above, for filing comments or evidence responsive to TRRC's updated evidence with the Board and serving copies on all other PORs.

¹ Current PORs may update their addresses during this 10-day period by sending any new information to the Board.

After expiration of the 10-day period for filing notices of intent to participate, the Board will issue an updated service list, which will include persons who have given notice of their intent to participate pursuant to this decision, as well as those currently on the list. Within 5 days of the issuance of the updated service list, current PORs must serve the new PORs with copies of all filings submitted by that party since May 1, 2003. The current PORs will also be required to file with the Board, within 10 days of the service date of the updated list, an original plus 10 copies of a certificate of service indicating that the service required by this decision has been accomplished. The 40-day period for comments, described above, will begin running on the date the updated service list is issued.

Copies of TRRC's supplemental evidence and its original Tongue River III application are available for public inspection at the office of either the Surface Transportation Board or the applicant, TRRC.²

² TRRC has filed a petition for substitution of parties, in which it requests that Tongue River Railroad Company, Inc. be substituted for Tongue River Railroad Company as the applicant in this proceeding. This petition has been contested and will be addressed in a subsequent decision by the Board. Until then, all pleadings should continue to refer to applicant as Tongue River Railroad Company. The address of the office where the copies mentioned above may be obtained has not changed.

Board decisions and notices are available on our Web site at WWW.STB.DOT.GOV.

This decision will not significantly affect either the quality of the human environment or the conservation of energy resources.

Decided: June 27, 2003.
By the Board, Vernon A. Williams, Secretary.
Vernon A. Williams,
Secretary.

Appendix—Procedural Schedule

July 17, 2003—Due date for notices of intent to participate as a POR.

L—Date of service of updated Service List.

L + 5—Due date for current PORs to serve previously submitted filings on new PORs.

L + 10—Due date for certificates of service from current PORs.

L + 40—Due date for comments or evidence responsive to the supplemental evidence.

L + 60—Due date for replies to comments and responsive evidence.

[FR Doc. 03-17011 Filed 7-3-03; 8:45 am]

BILLING CODE 4915-00-P